DEPARTMENT OF TRANSPORTATION

Federal Highway Administration

Environmental Impact Statement: Santa Rosa, Sonoma County; California

AGENCY: Federal Highway Administration (FHWA), DOT.

ACTION: Notice of Intent.

SUMMARY: The FHWA is issuing this notice to advise the public that an Environmental Impact Statement will be prepared for a proposed highway project in Santa Rosa, Sonoma County, California.

FOR FURTHER INFORMATION CONTACT: Mr. C. Glenn Clinton, Team Leader, Project Delivery Team, Federal Highway Administration, 980 9th Street, Sacramento, California 95814-2724, Telephone: (916) 498-5020.

SUPPLEMENTARY INFORMATION: The FHWA, in cooperation with the California Department of Transportation (Caltrans), will prepare an environmental impact statement (EIS) for a proposal to construct a median widening to accommodate a high occupancy vehicle lane (HOV) through the City of Santa Rosa, Sonoma County, California. State Route 101, completed in the 1960's, is a major link in the interregional road system, and the most important north-south route within Sonoma County. The level of service (LOS) on the 4.5 kilometer (2.7 mile) stretch of four lane freeway through downtown Santa Rosa between the Route 12/101 interchange and the Steele Lane Interchange has deteriorated, leading to traffic delays. This is caused by accidents, vehicle breakdowns, and principally by congestion. A recent study by Caltrans' Office of Highway Operations shows that LOS on this section is at the lowest level. This is indicated by traffic at roadway capacity, when speeds may drop to zero with high densities. Average speed is less than 25 miles per hour with considerable delays. The continued maintenance and operation of Route 101 as an efficiently operating mainline facility will be further impacted by increasing congestion if steps are not taken to improve its operation.

Alternatives currently under consideration are: (1) Widening into the median to accommodate HOV lanes in each direction, as well as auxiliary lanes, ramp widening, alteration or replacement of the bridge spanning Santa Rosa Creek and modification of intersection at ramp termini and (2) not constructing the project. If this project is approved, construction will begin in late 2004 and continue through 2007. The primary objective for this proposed project is to improve the travel times, increase safety, and reduce congestion on a major regional connector.

Because this project has been under consideration for several years, a previous scoping meeting was held on October 27, 1999, to present project proposals to the public. Since the decision to prepare an Environmental Impact Statement was made, a new scoping meeting has been scheduled for November 29, 2000, as is required by the National Environmental Policy Act (NEPA). The new public meeting will be held at Santa Rosa Middle School, between 5:00 and 8:00 p.m., so that the public may review the alternative under consideration and provide written comments if desired. A public hearing will be held later in the environmental process, after the Draft Environmental Impact Statement is completed.

Issued on: October 24, 200.
C. Glenn Clinton,
Team Leader, Program Delivery Team, North Sacramento, California.

[FR Doc. 00-27756 Filed 10-27-00; 8:45 am]

BILLING CODE 4910-22-M